DEPARTMENT OF HEALTH AND HUMAN SERVICES

National Institutes of Health

National Institute of Diabetes and Digestive and Kidney Diseases; Amended Notice of Meeting

Notice is hereby given of a change in the meeting of the Digestive Diseases and Nutrition C Study Section, October 11, 2023, 05:30 p.m. to October 13, 2023, 05:00 p.m., National Institutes of Health, NIDDK, Democracy II, Suite 7000A, 6707 Democracy Boulevard, Bethesda, MD 20892 which was published in the Federal Register on September 07, 2023, 61605.

The meeting notice is amended to change the start date of the meeting from 10/11-13/2023 to 11/1-3/2023. The meeting is closed to the public.

Dated: September 14, 2023.
Miguelina Perez,
Program Analyst, Office of Federal Advisory Committee Policy.

[FR Doc. 2023-20245 Filed 9-18-23; 8:45 am]

BILLING CODE 4140-01-P